DEPARTMENT OF ENERGY

Federal Energy Regulatory Commission

Combined Notice of Filings #2

Take notice that the Commission received the following electric rate filings:

Docket Numbers: ER10-2822-003; ER10-2823-002; ER11-2462-002; ER11-2463-002; ER11-2112-003; ER10-2826-002; ER10-2827-002; ER11-2482-003; ER11-2464-002; ER10-3158-002; ER10-3159-001; ER10-1720-002; ER10-2942-002; ER10-2944-002; ER10-2945-002; ER10-2949-002; ER10-2423-001; ER10-2404-001; ER10-2956-002; ER11-2483-002; ER11-2465-002; ER10-2994-004; ER11-2466-002; ER11-2467-002; ER11-2468-002; ER11-2469-002; ER11-2470-002; ER11-2471-002; ER11-2472-002; ER11-2484-002; ER11-2485-003; ER11-2564-003; ER11-2514-002; ER11-2516-002; ER11-2563-003; ER11-2512-002; ER11-2509-003; ER10-2285-002; ER11-2507-002; ER11-2486-002; ER12-308-002; ER10-3005-002; ER10-3006-002; ER10-3007-003; ER10-3161-002; ER12-422-001; ER11-2032-002; ER10-3008-002; ER11-2473-002; ER11-2487-003; ER10-3011-002; ER11-2196-003; ER10-3162-002; ER12-12-001; ER11-2474-002; ER11-2488-002; ER10-3032-002; ER11-2475-002.

Applicants: Klondike Wind Power III LLC, Northern Iowa Windpower II LLC, Big Horn Wind Project LLC, Colorado Green Holdings LLC, Dillon Wind LLC, Flat Rock Windpower LLC, Flying Cloud Power Partners, LLC, Klamath Energy LLC, Klamath Generation LLC, Moraine Wind LLC, Mountain View Power Partners III, LLC, Shiloh I Wind Project, LLC, Trimont Wind I LLC, Locust Ridge Wind Farm, LLC, Barton Windpower LLC, Iberdrola Renewables, Inc., Atlantic Renewables Projects II LLC, Carthage Energy, LLC, Elm Creek Wind, LLC, Farmers City Wind, LLC, Pebble Springs Wind LLC, PEI Power II, LLC, Dry Lake Wind Power, LLC, Star Point Wind Project LLC, Buffalo Ridge II LLC, Energetix, Inc., Big Horn II Wind Project LLC, Casselman Windpower LLC, Klondike Wind Power II LLC, Locust Ridge Wind Farm II, LLC, MinnDakota Wind, LLC, Streator-Cayuga Ridge Wind Power LLC, Dry Lake Wind Power II LLC, Hardscrabble Wind Power LLC, Leaning Juniper Wind Power II LLC, Hartford Steam Company, NYSEG Solutions, Inc., New Harvest Wind Project LLC, Buffalo Ridge I LLC, Elm Creek Wind II LLC, Flat Rock Windpower II LLC, Hay Canyon Wind LLC, Juniper Canyon Wind Power LLC, Klondike Wind Power LLC, Lempster Wind, LLC, Moraine Wind II LLC, Providence Heights Wind, LLC, Rugby Wind LLC, Twin Buttes Wind LLC, Manzana Wind LLC, Blue Creek Wind Farm LLC, San Luis Solar LLC, Elk River Windfarm LLC, New York State Electric & Gas Corporation, Rochester Gas and Electric Corporation, South Chestnut LLC, New England Wind, LLC, Central Maine Power Company

Description: Notice of Change in Status of the Iberdrola MBR Sellers.

Filed Date: 1/23/12.

Accession Number: 20120123-5310.

Comments Due: 5 p.m. ET 2/13/12.

Docket Numbers: ER10-3286-003.

Applicants: Millennium Power Partners, L.P., New Athens Generating Company, LLC.

Description: Supplemental Information of Millennium Power Partners, L.P.

Filed Date: 11/23/11.

Accession Number: 20111123-5095.

Comments Due: 5 p.m. ET 2/3/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 24, 2012.
Nathaniel J. Davis, Sr.,
Deputy Secretary.

[FR Doc. 2012-2118 Filed 1-31-12; 8:45 am]

BILLING CODE 6717-01-P